DEPARTMENT OF THE INTERIOR

Bureau of Land Management

[LLWY93000 L16100000.DU0000]

Notice of Availability of the Draft Visual Resource Management and Areas of Critical Environmental Concern Amendment to the Resource Management Plan for the Rawlins Field Office and Associated Environmental Assessment, WY

AGENCY: Bureau of Land Management, Interior.

ACTION: Notice of availability.

SUMMARY: In accordance with the National Environmental Policy Act of 1969, as amended, and the Federal Land Policy and Management Act of 1976, as amended, the Bureau of Land Management (BLM) has prepared a Draft Visual Resources Management and Area of Critical Environmental Concern (ACEC) Resource Management Plan (RMP) Amendment and a Draft Environmental Assessment (EA) for the Draft Amendment for the Rawlins Field Office, Wyoming, and by this notice is announcing the opening of the comment period.

DATES: To ensure that comments will be considered, the BLM must receive written comments on the Draft RMP Amendment and Draft EA within 60 days following the date the Environmental Protection Agency publishes its Notice of Availability in the Federal Register. The BLM will announce future meetings or hearings and any other public involvement activities at least 15 days in advance through public notices, media releases, and/or mailings, and the BLM Web site at: http://www.blm.gov/wy/st/en/programs/Planning/rmps/rawlins.html.

ADDRESSES: You may submit comments related to the Draft Visual Resource Management and Areas of Critical Environmental Concern Amendment to the RMP for the Rawlins Field Office, Wyoming, and associated Draft EA by any of the following methods:

• Email: BLM_WY_RL_RMP_VRM@blm.gov. Please reference Rawlins VRM Review in the subject line.

• Fax: 307-328-4224.

• Mail: Bureau of Land Management, Rawlins Field Office, 1300 North Third Street, Rawlins, Wyoming 82301, or P.O. Box 2407, Rawlins, Wyoming 82301-2407.

All comments must include a legible full name and address on the envelope, letter, fax, postcard, or email. Copies of the Draft Visual Resource Management and Areas of Critical Environmental Concern Amendment to the RMP for the Rawlins Field Office, Wyoming, and associated Draft EA are available at the Rawlins Field Office, at the above address, and at the following locations:

• Bureau of Land Management, High Desert District Office, 280 Highway 191 North, Rock Springs, WY 82901, and

• Bureau of Land Management, Wyoming State Office, 5353 Yellowstone Road, Cheyenne, WY 82009.

FOR FURTHER INFORMATION CONTACT: Sheila Lehman, Rawlins Field Office Planning and Environmental Coordinator:

• Telephone: 307-328-4200

• Mail: Bureau of Land Management, Rawlins Field Office, 1300 North Third Street, Rawlins, WY 82301-2407

• Email: BLM_WY_RL_RMP_VRM@blm.gov.

Persons who use a telecommunications device for the deaf (TDD) may call the Federal Information Relay Service (FIRS) at 1-800-877-8339 to contact the above individual during normal business hours. The FIRS is available 24 hours a day, 7 days a week, to leave a message or question with the above individual. You will receive a reply during normal business hours.

SUPPLEMENTARY INFORMATION: This document provides notice that the BLM Field Office in Rawlins, Wyoming, has prepared a Draft RMP amendment with an associated EA, is announcing the beginning of the 60-day comment period, and seeks public comment on Visual Resource Management issues and proposed ACECs. The planning area is located in Albany, Carbon, Laramie, and eastern Sweetwater counties, Wyoming, and encompasses approximately 2,791,721 acres. The planning area does not include public land affected by the Chokecherry and Sierra Madre Visual RMP Amendment and Environmental Impact Statement (EIS). The Notice of Intent to prepare the amendment to the RMP was published on April 11, 2012 (77 FR 21803), and a 30-day public scoping period was held following publication from April 11, 2012, through May 10, 2012. The scoping comments were used during the preparation of the RMP Amendment and associated EA to help identify issues and concerns associated with the amendment, and to form the following alternatives:

• Alternative 1: No Action—Continuation of existing management direction for Visual Resources and ACECs; new information and data would not be incorporated;

• Alternative 2: Emphasis on the Development of Resources; incorporating new Visual Resource Inventory information and reducing the Blowout Penstemon ACEC;

• Alternative 3: Emphasis on the Protection of Resources; incorporating new Visual Resource Inventory information and expanding the Blowout Penstemon ACEC;

• Alternative 4: Emphasis on the Conservation of Resources; incorporating new Visual Resource Inventory information and expanding the Blowout Penstemon ACEC (Preferred Alternative).

This plan amendment addresses protests received following the publication of the 2008 Rawlins Proposed RMP/Final EIS, which identified issues with the Rawlins Field Office's analysis of both Visual Resources and the designation of ACECs. The Visual Resource Management decisions in the Proposed RMP/Final EIS were remanded and not approved in the Record of Decision until a complete Visual Resources Inventory was completed and a Visual Resource Management RMP amendment could be developed. In addition, comments received during initial scoping of the 2008 Rawlins RMP included nominations of five additional ACECs within the Rawlins Field Office boundary. Because the BLM did not review or consider relevance and importance criteria for the nominated ACECs in the 2008 Rawlins RMP planning process, these nominated areas are analyzed for ACEC designation in this planning process. The following ACEC nominations were evaluated to determine if the relevance and importance criteria were met, but were not included in any alternative because they did not meet relevance or importance criteria:

• McCarty Canyon; for scenic quality and wildlife habitat;

• Seminoe and Pathfinder Reservoirs; for sensitive plant species, scenic quality, and wildlife habitat;

• Flattop Mountain; for sensitive plant species, scenic quality, and wildlife habitat; and

• Ferris Mountain; for sensitive plant species and scenic quality.

The Ferris Dunes area was nominated as an ACEC in the 2008 Rawlins RMP for several sensitive plant species, a unique sand dune community and habitat, the desert kangaroo rat, and for scenic quality. The nominated Ferris Dunes ACEC area includes the current Blowout Penstemon ACEC and additional area surrounding the existing ACEC. The nominated area was found to meet the relevance and importance criteria. The area is considered in this EA with additional use restrictions which would occur if the area is formally designated including limiting off-road travel and locatable/leasable mineral entry, intensive management of surface disturbing activities, and control of pesticide use. The RMP plan amendment will comply with the National Environmental Policy Act, the Federal Land Policy Management Act, and other applicable laws, executive orders, regulations, and be consistent with applicable policies. The planning effort will recognize valid existing rights. Decisions in the amendment will apply only to the BLM-administered public lands and Federal mineral estate in the planning area.

A collaborative and multi-jurisdictional approach will be used to jointly determine the desired future condition and management direction for Visual Resources and ACECs in the Rawlins Field Office Planning Area. To the extent possible and consistent with applicable laws, regulations and policies, the BLM management and planning decisions will complement the planning and management decisions of other agencies, State and local governments, and Native American tribes, with jurisdictions intermingled with, and adjacent to, the planning area.

A total of 9,369 comments were received during scoping, of which 214 were considered to be unique. A majority of the comments were received by individuals and non-governmental organizations, and identified the following key issues:

1. Impacts to historic trails and roads;

2. Potential changes to existing land use planning and consistency with current management;

3. Continuation of public involvement;

4. Socioeconomic impacts; and

5. Impacts of additional ACEC designations.

Please note that public comments and information submitted including names, street addresses, and email addresses of persons who submit comments will be available for public review and disclosure at the above address during regular business hours (8 a.m. to 4 p.m.), Monday through Friday, except holidays. You may submit comments in writing to the BLM at any public meeting, or you may submit them to the BLM using one of the methods listed in the “ADDRESSES” section above. For your comments to be most effective and fully considered, you should submit comments by the close of the 60-day comment period.

Before including your address, phone number, email address, or other personal identifying information in your comment, you should be aware that your entire comment—including your personal identifying information—may be made publicly available at any time. While you may ask us in your comment to withhold your personal identifying information from public review, we cannot guarantee that we will be able to do so.

Authority: 40 CFR 1506.6, 43 CFR 1610.2

Donald A. Simpson,
State Director, Wyoming.

[FR Doc. 2013-21118 Filed 8-29-13; 8:45 am]

BILLING CODE 4310-22-P